DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons whose property and interests in property have been unblocked and have been removed from OFAC's Specially Designated Nationals and Blocked Persons List (SDN List).

DATES: See SUPPLEMENTARY INFORMATION section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals (SDN) and Blocked Persons List and additional information concerning OFAC sanctions programs are available on OFAC's website (https://www.treasury.gov/ofac).

Notice of OFAC Action

On April 23, 2021, OFAC determined that the property and interests in property subject to U.S. jurisdiction of the following persons are unblocked and they have been removed from the SDN List under the relevant sanctions authorities listed below.

Individuals

1. CARO ELENES, Henoch Emilio, Callejon del Sereno No. 4361, Col. Fracc. Jardines Universidad, Zapopan, Jalisco C.P. 45110, Mexico; Paseo del Bosque No. 2428, Colonia Lomas Altas, Zapopan, Jalisco, Mexico; Av. Pablo Neruda No. 4111, Casa 1, Colonia Lomas del Valle, Zapopan, Jalisco C.P. 45129, Mexico; Paseo de los Parques No. 3995, Interior 7, Zapopan, Jalisco C.P. 45110, Mexico; Loreto Mendez #4432, Guadalajara, Jalisco, Mexico; DOB 15 Mar 1980; POB Culiacan, Sinaloa, Mexico; alt. POB Guadalajara, Jalisco, Mexico; R.F.C. CAEH800315V38 (Mexico); C.U.R.P. CAEH800315HSLRLN07 (Mexico) (individual) [SDNTK] (Linked To: BLUE POINT SALT, S.A. DE C.V.; Linked To: DESARROLLOS BIO GAS, S.A. DE C.V.; Linked To: ECA ENERGETICOS, S.A. DE C.V.; Linked To: EVCOMER, S.A. DE C.V.; Linked To: PETRO BIO, S. DE R.L. DE C.V.; Linked To: PRONTO SHOES, S.A. DE C.V.; Linked To: REFORESTACIONES CARELES, S. DE P.R. DE R.L.; Linked To: ARRENDADORA TURIN, S.A.; Linked To: BARSAT, S.A. DE C.V.; Linked To: DESARROLLADORA SAN FRANCISCO DEL RINCON, S.A. DE C. V.; Linked To: DINERMAS, S. DE R.L. DE C.V.; Linked To: ENERGETICOS VAGO, S.A. DE C.V.; Linked To: FORTANAS, S. DE R.L. DE C.V.; Linked To: GRUPO BARSATERRA S.A. DE C.V.; Linked To: GRUPO ESPANOL ELCAR, S.A. DE C.V.; Linked To: MINERALES NUEVA ERA, S.A. DE C.V.; Linked To: MINERALES NUEVA GENERACION, S.A. DE C.V.; Linked To: NUEVA TERRA, S. DE R.L. DE C.V.; Linked To: OPERADORA ENGO, S.C.; Linked To: PETRO LONDON, S. DE R.L. DE C.V.; Linked To: PETRO MAS, S. DE R.L. DE C.V.; Linked To: PROMI FEL, S. DE R.L. DE C.V.; Linked To: TAXI AEREO NACIONAL DE CULIACAN, S.A.; Linked To: VILLAS DEL COLLI S.A. DE C.V.).

2. CARO ELENES, Hector Rafael (a.k.a. CARO HELENES, Hector Rafael), Callejon del Serrano 4361, Guadalajara, Jalisco, Mexico; Loreto Mendez #4432, Guadalajara, Jalisco, Mexico; San Gonzalo No. 1715, Colonia Santa Isabel, Zapopan, Jalisco C.P. 45110, Mexico; Calle Circuito Madrigal No. 4236 Interior 5, Colonia Santa Isabel, Zapopan, Jalisco C.P. 45110, Mexico; Avenida Acueducto No. 5056, Colonia Jardines de la Patria, Zapopan, Jalisco, Mexico; DOB 18 Dec 1975; POB Culiacan, Sinaloa, Mexico; R.F.C. CAEH751218JT4 (Mexico); C.U.R.P. CAEH751218HSLRLC01 (Mexico) (individual) [SDNTK] (Linked To: BLUE POINT SALT, S.A. DE C.V.; Linked To: DESARROLLOS BIO GAS, S.A. DE C.V.; Linked To: ECA ENERGETICOS, S.A. DE C.V.; Linked To: ORGANIC SALT, S.A. DE C.V.; Linked To: PETRO BIO, S. DE R.L. DE C.V.; Linked To: PRONTO SHOES, S.A. DE C.V.; Linked To: ARRENDADORA TURIN, S.A.; Linked To: BARSAT, S.A. DE C.V.; Linked To: DESARROLLADORA SAN FRANCISCO DEL RINCON, S.A. DE C. V.; Linked To: DINERMAS, S. DE R.L. DE C.V.; Linked To: ENERGETICOS VAGO, S.A. DE C.V.; Linked To: ESTACION DE SERVICIO ATEMAJAC, S.A. DE C.V.; Linked To: FORTANAS, S. DE R.L. DE C.V.; Linked To: GRUPO BARSATERRA S.A. DE C.V.; Linked To: GRUPO ESPANOL ELCAR, S.A. DE C.V.; Linked To: INMOBILIARIA PROMINENTE, S.A. DE C.V.; Linked To: NUEVA TERRA, S. DE R.L. DE C.V.; Linked To: OPERADORA ENGO, S.C.; Linked To: PETRO LONDON, S. DE R.L. DE C.V.; Linked To: PETRO MAS, S. DE R.L. DE C.V.; Linked To: PROMI FEL, S. DE R.L. DE C.V.; Linked To: SERVICIO Y OPERADORA SANTA ANA, S.A. DE C.V.; Linked To: TAXI AEREO NACIONAL DE CULIACAN, S.A.; Linked To: VILLAS DEL COLLI S.A. DE C.V.).

3. CARO ELENES, Mario Yibran (a.k.a. CARO, Gibran), Callejon del Sereno No. 4361, Col. Fracc. Jardines Universidad, Zapopan, Jalisco C.P. 45110, Mexico; Calle Loreto Mendez 4432, Sector Hidalgo, Guadalajara, Jalisco, Mexico; DOB 11 Jun 1983; POB Guadalajara, Jalisco, Mexico; R.F.C. CAEM830611SXD (Mexico); C.U.R.P. CAEM830611HJCRLR05 (Mexico) (individual) [SDNTK] (Linked To: PETRO BIO, S. DE R.L. DE C.V.; Linked To: PRONTO SHOES, S.A. DE C.V.; Linked To: REFORESTACIONES CARELES, S. DE P.R. DE R.L.; Linked To: BARSAT, S.A. DE C.V.; Linked To: DINERMAS, S. DE R.L. DE C.V.; Linked To: NUEVA TERRA, S. DE R.L. DE C.V.; Linked To: PETRO MAS, S. DE R.L. DE C.V.; Linked To: PROMI FEL, S. DE R.L. DE C.V.; Linked To: TAXI AEREO NACIONAL DE CULIACAN, S.A.).

4. CARO ELENES, Roxana Elizabeth, Callejon del Sereno No. 4361, Col. Fracc. Jardines Universidad, Zapopan, Jalisco C.P. 45110, Mexico; San Gonzalo No. 1715, Colonia Santa Isabel, Zapopan, Jalisco C.P. 45110, Mexico; DOB 17 Jan 1978; POB Culiacan, Sinaloa, Mexico; R.F.C. CAER780117MK8 (Mexico); C.U.R.P. CAER780117MSLRLX03 (Mexico) (individual) [SDNTK] (Linked To: HACIENDA LAS LIMAS, S.A. DE C.V.; Linked To: PETRO BIO, S. DE R.L. DE C.V.; Linked To: REFORESTACIONES CARELES, S. DE P.R. DE R.L.; Linked To: BARSAT, S.A. DE C.V.; Linked To: TAXI AEREO NACIONAL DE CULIACAN, S.A.).

5. ELENES LERMA, Maria Elizabeth (a.k.a. ELENES DE CARO, Elizabeth), San Gonzalo No. 1715, Colonia Santa Isabel, Zapopan, Jalisco C.P. 45110, Mexico; Carretera Isidro Mazatepec No. 500, Colonia San Agustin, Tlajomulco de Zuniga, Jalisco C.P. 45645, Mexico; DOB 12 Dec 1952; POB Badiraguato, Sinaloa, Mexico; alt. POB Culiacan, Sinaloa, Mexico; R.F.C. EELE521212B18 (Mexico); C.U.R.P. EELE521212MSLLRL01 (Mexico) (individual) [SDNTK] (Linked To: HACIENDA LAS LIMAS, S.A. DE C.V.; Linked To: TAXI AEREO NACIONAL DE CULIACAN, S.A.; Linked To: VILLAS DEL COLLI S.A. DE C.V.).

6. SOTO RUIZ, Juan Carlos, Calle Las Flores 117, Colonia Victor Hugo, Zapopan, Jalisco, Mexico; DOB 27 May 1978; POB Guadalajara, Jalisco, Mexico; C.U.R.P. SORJ780527HJCTZN06 (Mexico) (individual) [SDNTK] (Linked To: ARRENDADORA TURIN, S.A.; Linked To: DESARROLLOS BIO GAS, S.A. DE C.V.; Linked To: ECA ENERGETICOS, S.A. DE C.V.; Linked To: ENERGETICOS VAGO, S.A. DE C.V.; Linked To: INMOBILIARIA PROMINENTE, S.A. DE C.V.; Linked To: OPERADORA ENGO, S.C.; Linked To: NUEVA TERRA, S. DE R.L. DE C.V.; Linked To: PRONTO SHOES, S.A. DE C.V.; Linked To: SERVICIO Y OPERADORA SANTA ANA, S.A. DE C.V.).

Entities

1. ARRENDADORA TURIN, S.A., Jalisco, Mexico; Folio Mercantil No. 75413-1 (Mexico) [SDNTK].

2. BARSAT, S.A. DE C.V. (a.k.a. BARZAT), Lope de Vega No. 232, Arcos Vallarta, Guadalajara, Jalisco 44130, Mexico; Folio Mercantil No. 23415-1 (Mexico) [SDNTK].

3. BLUE POINT SALT, S.A. DE C.V., A Las Rocas No. 244, Col. Prados Vallarta, Zapopan, Jalisco C.P. 45020, Mexico; Callejon del Sereno 4361, Zapopan, Jalisco C.P. 45110, Mexico; R.F.C. BPS050519NM6 (Mexico) [SDNTK].

4. DESARROLLADORA SAN FRANCISCO DEL RINCON, S.A. DE C. V., Guadalajara, Jalisco, Mexico; Folio Mercantil No. 27273-1 (Mexico) [SDNTK].

5. DESARROLLOS BIO GAS, S.A. DE C.V., Independencia Sur No. 185, Col. Analco, Guadalajara, Jalisco C.P. 44450, Mexico; R.F.C. DBG0805095P7 (Mexico) [SDNTK].

6. DINERMAS, S. DE R.L. DE C.V., Guadalajara, Jalisco, Mexico; Folio Mercantil No. 40037-1 (Mexico) [SDNTK].

7. ECA ENERGETICOS, S.A. DE C.V., Calle Adolfo B. Horn No. 1437, Col. Pueblo Toluquilla, Tlaquepaque, Jalisco C.P. 45610, Mexico; R.F.C. EEN0310271G7 (Mexico) [SDNTK].

8. EL BANO DE MARIA, S. DE R.L. DE C.V., Periferico Poniente No. 2100, Col. Ciudad Granja, Guadalajara, Jalisco C.P. 45010, Mexico; Santa Clara No. 88, Col. El Briseno, Zapopan, Jalisco C.P. 45236, Mexico; Av. Pablo Neruda casi esq. con Ruben Dario, Guadalajara, Jalisco, Mexico; Gran Plaza, Guadalajara, Jalisco, Mexico; Plaza del Sol, Guadalajara, Jalisco, Mexico; Plaza Patria, Guadalajara, Jalisco, Mexico; Plaza Mexico, Guadalajara, Jalisco, Mexico; Aeropuerto de Guadalajara, Jalisco, Mexico; Puerto Vallarta, Jalisco, Mexico; Mazatlan, Sinaloa, Mexico; Monterrey, Nuevo Leon, Mexico; Celaya, Guanajuato, Mexico; Tijuana, Baja California, Mexico; Los Cabos, Baja California Sur, Mexico; R.F.C. BMA040923MZ9 (Mexico) [SDNTK].

9. ENERGETICOS VAGO, S.A. DE C.V., Cuauhtemoc No. 252, Valle de San Sebastian, Tlajomulco de Zuniga, Jalisco 45650, Mexico; Folio Mercantil No. 29924-1 (Mexico) [SDNTK].

10. ESTACION DE SERVICIO ATEMAJAC, S.A. DE C.V., Calle Mar Baltico # 2240-408, Colonia Country Club, Guadalajara, Jalisco, Mexico; Folio Mercantil No. 58218-1 (Mexico) [SDNTK].

11. EVCOMER, S.A. DE C.V., Independencia Sur No. 185, Col. Analco, Guadalajara, Jalisco C.P. 44450, Mexico; R.F.C. EVC080410DE6 (Mexico) [SDNTK].

12. FORTANAS, S. DE R.L. DE C.V., Guadalajara, Jalisco, Mexico; Folio Mercantil No. 39751-1 (Mexico) [SDNTK].

13. GRUPO BARSATERRA S.A. DE C.V., Guadalajara, Jalisco, Mexico; Folio Mercantil No. 25296-1 (Mexico) [SDNTK].

14. GRUPO ESPANOL ELCAR, S.A. DE C.V., Guadalajara, Jalisco, Mexico; Folio Mercantil No. 23416-1 (Mexico) [SDNTK].

15. HACIENDA LAS LIMAS, S.A. DE C.V., Carretera a Ciudad Guzman Km. 49, entre de crucero de Atoyac y crucero de Amacueca, Acatlan, Jalisco, Mexico; Callejon del Sereno #4361, Colonia Villa Universitaria, Zapopan, Jalisco, Mexico; R.F.C. HLI040211HK3 (Mexico) [SDNTK].

16. INMOBILIARIA PROMINENTE, S.A. DE C.V., Guadalajara, Jalisco, Mexico; Folio Mercantil No. 12354-1 (Mexico) [SDNTK].

17. MINERALES NUEVA ERA, S.A. DE C.V. (a.k.a. DIATOMAG; a.k.a. DIATOMKILL), Calle San Antonio No. 70, Col. Las Fuentes, Zapopan, Jalisco CP 45070, Mexico; Vidrio No. 5, Col. el Camino, Tlaquepaque, Jalisco 45239, Mexico; Volcan Paricutin 6277, Col. El Colli Urbano, Zapopan, Jalisco, Mexico; Folio Mercantil No. 33093-1 (Mexico) [SDNTK].

18. MINERALES NUEVA GENERACION, S.A. DE C.V., Calle San Antonio No. 70, Col. Las Fuentes, Zapopan, Jalisco CP 45070, Mexico; R.F.C. MNG100714FR0 (Mexico); Folio Mercantil No. 56284-1 (Mexico) [SDNTK].

19. NUEVA TERRA, S. DE R.L. DE C.V., Lope de Vega No. 232, Arcos Vallarta, Guadalajara, Jalisco 44130, Mexico; Folio Mercantil No. 39815-1 (Mexico) [SDNTK].

20. OPERADORA ENGO, S.C., Comercio 172, Mexicaltzingo, Guadalajara, Jalisco C.P. 44180, Mexico; Liceo 793, Alcalde Barranquitas, Guadalajara, Jalisco C.P. 44280, Mexico; R.F.C. OEN060529P75 (Mexico) [SDNTK].

21. ORGANIC SALT, S.A. DE C.V., Callejon del Sereno No. 4361, Col. Jacarandas Zapopan 4, Zapopan, Jalisco C.P. 45110, Mexico; R.F.C. OSA030512AL3 (Mexico) [SDNTK].

22. PETRO BIO, S. DE R.L. DE C.V., Independencia Sur No. 185, Col. Analco, Guadalajara, Jalisco C.P. 44450, Mexico; R.F.C. PBI080509Q47 (Mexico) [SDNTK].

23. PETRO LONDON, S. DE R.L. DE C.V., Lazaro Cardenas No. 4094, Don Bosco Vallarta, Zapopan, Jalisco 45049, Mexico; Folio Mercantil No. 28057-1 (Mexico) [SDNTK].

24. PETRO MAS, S. DE R.L. DE C.V., Guadalajara, Jalisco, Mexico; Folio Mercantil No. 39818-1 (Mexico) [SDNTK].

25. PROMI FEL, S. DE R.L. DE C.V., Guadalajara, Jalisco, Mexico; Folio Mercantil No. 39805-1 (Mexico) [SDNTK].

26. PRONTO SHOES, S.A. DE C.V. (a.k.a. CX INSPIRA; a.k.a. CX MILAN GUADALAJARA; a.k.a. CX MODA; a.k.a. CX-SHOES), 16 de Septiembre 635, Casi Esq. la Paz, Guadalajara, Jalisco, Mexico; Av. Lafragua 2729, Esq. Paseo Jardin, Fracc. Moderno, Veracruz, Veracruz, Mexico; Comercio No. 172, Col. Mexicaltzingo, Guadalajara, Jalisco C.P. 44180, Mexico; Padre Mier 185, Col. Centro, Monterrey, Nuevo Leon C.P. 64000, Mexico; San Lorenzo 31 Entre Calzada la Ermita y Rueda Pastor, Col. 8va. Amplicacion Iztapalapa, Mexico, Distrito Federal, Mexico; Tecnologico 210, Esq. Cortador, Fracc. Industrial Julian de Obregon, Leon, Guanajuato C.P. 37290, Mexico; R.F.C. PSH081211I53 (Mexico) [SDNTK].

27. REFORESTACIONES CARELES, S. DE P.R. DE R.L., Callejon del Sereno No. 4361, Col. Fracc. Jardines Universidad, Zapopan, Jalisco C.P. 45110, Mexico; R.F.C. RCA050316ET5 (Mexico) [SDNTK].

28. SERVICIO Y OPERADORA SANTA ANA, S.A. DE C.V., Camino a Santa Ana Tepetitlan No. 316, Colonia Agricola, Zapopan, Jalisco C.P. 45200, Mexico; R.F.C. SOS050203E31 (Mexico); Folio Mercantil No. 25524-1 (Mexico) [SDNTK].

29. TAXI AEREO NACIONAL DE CULIACAN, S.A., Culiacan, Sinaloa, Mexico; R.F.C. TAN-780822-001 (Mexico) [SDNTK].

30. VILLAS DEL COLLI S.A. DE C.V., Guadalajara, Jalisco, Mexico; Folio Mercantil No. 3875-1 (Mexico) [SDNTK].

Dated: April 23, 2021.
Gregory T. Gatjanis,
Associate Director, Office of Global Targeting Office of Foreign Assets Control, U.S. Department of the Treasury.

[FR Doc. 2021-09066 Filed 4-29-21; 8:45 am]

BILLING CODE 4810-AL-P